DEPARTMENT OF DEFENSE

Department of the Army; Corps of Engineers

Intent To Prepare an Environmental Impact Statement for Pine Mountain Dam & Lake Project, AR

AGENCY: Department of the Army, U.S. Army Corps of Engineers, DoD.

ACTION: Notice of intent.

SUMMARY: Pursuant to the National Environmental Policy Act (NEPA), the U.S. Army Corps of Engineers (USACE), Little Rock District will prepare an Environmental Impact Statement (EIS) for the proposed Pine Mountain Dam and Lake Project, AR.

The purpose of the EIS will be to present alternatives and assess the impacts to the human environment associated with providing flood control, recreation and water supply for the surrounding areas in Arkansas and Oklahoma from the proposed project. The study area includes the entire Lee Creek watershed together with the lower Lee Creek reservoir near Van Buren, AR. The proposed project could affect agriculture, recreation, flood control, water supply and natural resources within the study area.

The EIS will evaluate potential impacts (positive and negative) to the natural, physical, and human environment as a result of implementing any of the proposed project alternatives that may be developed during the EIS process.

ADDRESSES: Questions or comments concerning the proposed action should be addressed to: Mr. Ron Carman, USACE, Little Rock District, Planning and Environmental Office, PO Box 867, Little Rock, AR 72203-0867, e-mail: ron.r.carman@usace.army.mil.

FOR FURTHER INFORMATION CONTACT: Mr. Ron Carman, (501) 324-5601.

SUPPLEMENTARY INFORMATION: 1. Study History: The Pine Mountain Dam project was authorized for construction by Congress in 1965. Additional studies and a preliminary draft EIS were prepared in the 1970s. In 1980, prior to public review of the EIS, the local sponsor decided not to continue sponsoring the project. In 2000, the River Valley Regional Water District identified themselves as a willing sponsor and requested that the Corps of Engineers reevaluate the project. The proposed Pine Mountain Dam Project is being undertaken by USACE, Little Rock District under the direction of the U.S. Congress. A study will be conducted consisting of major hydraulics and hydrologic investigations, economic analyses, alternative development and related analyses in conjunction with the EIS.

2. Comments/Scoping Meeting: Interested parties are requested to express their views concerning the proposed activity. The public is encouraged to provide written comments in addition to or in lieu of oral comments at scoping meetings. To be most helpful, scoping comments should clearly describe specific environmental topics or issues, which the commentator believes the document should address. Oral and written comments receive equal consideration.

Scoping meetings will be held with government agencies and the public in the spring/summer of 2006 in Crawford County, AR. The location, time, and date will be published at least 14 days prior to each scoping meeting. Comments received as a result of this notice and the news releases will be used to assist the District in identifying potential impacts to the quality of the human or natural environment. Affected local, state, or Federal agencies, affected Indian Tribes, and other interested private organizations and parties may participate in the scoping process by forwarding written comments to (see ADDRESSES). Interested parties may also request to be included on the mailing list for public distribution of meeting announcements and documents.

4. Alternatives/Issues: The EIS will evaluate the effects of the Pine Mountain Dam and Lake, other practical alternatives, and other identified concerns. Anticipated significant issues to be addressed in the EIS include impacts on: (1) Flooding, (2) water supply, (3) recreation and recreation facilities, (4) stream hydraulics, (5) fish and wildlife resources and habitats, and (6) other impacts identified by the Public, agencies or USACE studies.

5. Availability of the Draft EIS: The Draft EIS is anticipated to be available for public review in early 2009 subject to the receipt of federal funding.

6. Authority: Pine Mountain Dam and Lake was authorized for construction by the Flood Control Act of 1965 (Title II, Pub. L. 89-298) substantially in accordance with the recommendations of the Chief of Engineers in House Document No. 270, 89th Congress.

Wally Z. Walters,
Colonel, Corps of Engineers, District Commander.

[FR Doc. 06-4061 Filed 4-28-06; 8:45 am]

BILLING CODE 3710-57-M